DEPARTMENT OF COMMERCE

International Trade Administration

[A-560-826]

Monosodium Glutamate From the Republic of Indonesia: Preliminary Results of the First Full Sunset Review of the Antidumping Duty Order

AGENCY: Enforcement and Compliance, International Trade Administration, Department of Commerce.

SUMMARY: Commerce preliminarily finds that revocation of the antidumping duty order on monosodium glutamate (MSG) from the Republic of Indonesia (Indonesia) would be likely to lead to the continuation or recurrence of dumping at the levels indicated in the “Preliminary Results of Review” section of this notice.

DATES: Applicable March 3, 2020.

FOR FURTHER INFORMATION CONTACT: Thomas Dunne, AD/CVD Operations, Office VII, Enforcement and Compliance, International Trade Administration, U.S. Department of Commerce, 1401 Constitution Avenue NW, Washington, DC 20230; telephone: (202) 482-2328.

SUPPLEMENTARY INFORMATION:

Background

On October 1, 2019, Commerce published the notice of initiation of the first full sunset review of the Order,¹ pursuant to section 751(c) of the Tariff Act of 1930, as amended (the Act).² Commerce received notices of intent to participate from Ajinomoto Health & Nutrition North America (the petitioner), a U.S. producer and wholesaler of a domestic like product, within the 15-day deadline specified in 19 CFR 351.218(d)(1)(i).³

¹ Monosodium Glutamate from the People's Republic of China, and the Republic of Indonesia: Antidumping Duty Orders; and Monosodium Glutamate from the People's Republic of China: Amended Final Determination of Sales at Less Than Fair Value (Order), 79 FR 70505 (November 26, 2014) (Order).

² See Initiation of Five-Year (Sunset) Reviews, 84 FR 52067 (October 1, 2019).

³ See Petitioner's Letter, “Monosodium Glutamate from Indonesia: Notice of Intent to Participate,” dated October 15, 2019.

On October 31, 2019, the petitioner filed its substantive response, and the CJ Companies filed their response in this sunset review pursuant to 19 CFR 351.218(d)(3).⁴ On November 5, 2019, PT. Cheil Jedang Indonesia and CJ America, Inc. (collectively, the CJ Companies) submitted rebuttal comments to the petitioner's response.⁵ On November 8, 2019, the petitioner timely filed rebuttal comments to the CJ Companies' response.⁶ On January 14, 2020, Commerce determined that we would conduct a full sunset review of MSG from Indonesia in accordance with 19 CFR 351.218 and notified the International Trade Commission. ⁷

⁴ See Petitioner's Letter, “Monosodium Glutamate from Indonesia, First Review: Substantive Response to Notice of Initiation,” dated October 31, 2019; CJ Companies' Letter, “Monosodium Glutamate (`MSG') from Indonesia; First Sunset Review; CJ Response to Notice of Initiation,” dated October 31, 2019.

⁵ See CJ Companies' Letter, “Monosodium Glutamate (`MSG') from Indonesia; First Sunset Review; CJ Rebuttal to Petitioner Response to Notice of Initiation,” dated November 5, 2019.

⁶ See Petitioner's Letter, “Monosodium Glutamate from Indonesia, First Review: Rebuttal to Substantive Response of PT. Cheil Jedang Indonesia and CJ America, Inc. to Notice of Initiation,” dated November 8, 2019.

⁷ See Memorandum, “Adequacy Reconsideration: First Sunset Review of Monosodium Glutamate from Indonesia,” dated January 14, 2019.

Scope of the Order

The product covered by the Order is MSG, whether or not blended or in solution with other products. Specifically, MSG that has been blended or is in solution with other product(s) is included in this scope when the resulting mix contains 15 percent or more of MSG by dry weight. Products with which MSG may be blended include, but are not limited to, salts, sugars, starches, maltodextrins, and various seasonings. A full description of the scope of the Order is contained in the accompanying Preliminary Decision Memorandum.⁸

⁸ See Memorandum, “Preliminary Decision Memorandum for the First Full Sunset Review of the Antidumping Duty Order on Monosodium Glutamate from the Republic of Indonesia,” dated concurrently with, and hereby adopted by, this notice (Preliminary Decision Memorandum).

Analysis of Comments Received

All issues raised in this sunset review are addressed in the Preliminary Decision Memorandum,⁹ which is hereby adopted by this notice. The Preliminary Decision Memorandum is a public document and is on file electronically via Enforcement and Compliance's Antidumping and Countervailing Duty Centralized Electronic Service System (ACCESS). ACCESS is available to registered users at http://acess.trade.gov, and to all in the Central Records Unit, Room B8024 of the main Commerce building. A list of topics discussed in the Preliminary Decision Memorandum is included as an appendix to this notice. In addition, a complete version of the Preliminary Decision Memorandum can be accessed directly at http://enforcement.trade.gov/frn. The signed and electronic versions of the Preliminary Decision Memorandum are identical in content.

⁹ Id.

Preliminary Results of Review

Pursuant to sections 751(c)(1) and 752(c)(1) and (3) of the Act, Commerce preliminarily determines that revocation of the Order would be likely to lead to the continuation or recurrence of dumping at weighted-average dumping margins up to 6.19 percent.

Public Comment

Interested parties may submit case briefs no later than 50 days after the date of publication of the preliminary results of this full sunset review, in accordance with 19 CFR 351.309(c)(1)(i). Rebuttal briefs, which must be limited to issues raised in the case briefs, may be filed not later than five days after the time limit for filing case briefs in accordance with 19 CFR 351.309(d). Any interested party may request a hearing within 30 days of publication of this notice in accordance with 19 CFR 351.310(c). Ordinarily, a hearing, if requested will be held two days after the scheduled date the rebuttal briefs are due. Commerce will issue a notice of final results of this full sunset review, which will include the results of its analysis of issues raised in any such comments, not later than May 28, 2020.

Notification to Interested Parties

This five-year (sunset) review and notice are in accordance with sections 751(c), 752(c), and 777(i)(1) of the Act, and 19 CFR 351.218(f)(1).

Dated: February 26, 2020.
Jeffrey I. Kessler,
Assistant Secretary for Enforcement and Compliance.

Appendix

List of Topics Discussed in the Preliminary Decision Memorandum

I. Summary

II. Background

III. Scope of the Order

IV. History of the Order

V. Legal Framework

VI. Discussion of the Issues

1. Likelihood of Continuation or Recurrence of Dumping

2. Magnitude of the Dumping Margin Likely to Prevail

VII. Preliminary Results of Sunset Review

VIII. Recommendation

[FR Doc. 2020-04347 Filed 3-2-20; 8:45 am]

BILLING CODE 3510-DS-P